DEPARTMENT OF THE INTERIOR

Bureau of Land Management

[AK-963-1430-ET; F-025943]

Public Land Order No. 7710; Extension of Public Land Order No. 3708, as Modified by Public Land Order No. 6709; Alaska

AGENCY: Bureau of Land Management, Interior.

ACTION: Public Land Order.

SUMMARY: This order extends the withdrawal created by Public Land Order No. 3708, as modified by Public Land Order No. 6709, and partially revoked by Public Land Order No. 7682, for an additional 20-year period. The extension is necessary to continue protection of the National Oceanic and Atmospheric Administration's Gilmore Satellite Tracking Station, also known as the Fairbanks Command and Data Acquisition Station, located near Fairbanks, Alaska.

DATES: Effective Date: February 15, 2009.

FOR FURTHER INFORMATION CONTACT: Terrie D. Evarts, Bureau of Land Management, Alaska State Office, 222 W. 7th Avenue, No. 13, Anchorage, Alaska 99513-7504, 907-271-5630.

SUPPLEMENTARY INFORMATION: Public Land Order No. 7682 partially revoked 63 acres and the acreage in this extension order reflects that revocation. The withdrawal extended by this order will expire on February 14, 2029, unless, as a result of a review conducted prior to the expiration date pursuant to Section 204(f) of the Federal Land Policy and Management Act of 1976, 43 U.S.C. 1714(f) (2000), the Secretary determines that the withdrawal shall be further extended.

Order

By virtue of the authority vested in the Secretary of the Interior by Section 204 of the Federal Land Policy and Management Act of 1976, 43 U.S.C. 1714 (2000), it is ordered as follows:

Public Land Order No. 3708 (30 FR 8753 (1965)), as modified by Public Land Order No. 6709 (54 FR 6919 (1989)), and partially revoked by Public Land Order No. 7682 (72 FR 71940 (2007)), which withdrew approximately 8,437 acres of public lands from all forms of appropriation under the public land laws, including the mining laws, but not from leasing under the mineral leasing laws, is hereby extended for an additional 20-year period until February 14, 2029.

Dated: June 4, 2008.
C. Stephen Allred,
Assistant Secretary—Land and Minerals Management.

[FR Doc. E8-14216 Filed 6-23-08; 8:45 am]

BILLING CODE 4310-JA-P